DEPARTMENT OF AGRICULTURE

Food and Nutrition Service

7 CFR Part 246

RIN 0584-AD77

Special Supplemental Nutrition Program for Women, Infants and Children (WIC): Revisions in the WIC Food Packages

AGENCY: Food and Nutrition Service (FNS), USDA.

ACTION: Final rule; technical correction.

SUMMARY: This document corrects a typographical error published in an interim final rule concerning maximum monthly allowances of supplemental foods for infants in food (packages I, II, and III) published in the Federal Register on December 6, 2007. A table contained a typographical error; this document corrects that error. All other information remains unchanged.

DATES: Effective Date: This correction is effective September 25, 2009.

FOR FURTHER INFORMATION CONTACT: Debra R. Whitford, Chief, Policy and Program Development Branch, Supplemental Food Programs Division, Food and Nutrition Service, USDA, 3101 Park Center Drive, Room 528, Alexandria, VA 22302, (703) 305-2746; Debbie.Whitford@fns.usda.gov.

SUPPLEMENTARY INFORMATION:

Correction

Interim rule document “Special Supplemental Nutrition Program for Women, Infants and Children (WIC): Revisions in the WIC Food Packages” published on December 6, 2007, at 72 FR 68966, § 246.10, “Table 1.—Maximum Monthly Allowances of Supplemental Foods For Infants in Food Packages I, II, and III”, contained a typographical error in the heading of the 5th column. As a result, the January 2009 revision of the CFR contained the incorrect column heading. This document ensures the correct heading will appear in the January 2010 edition of the CFR. For reasons of convenience and context, we are presenting table 1 revised in its entirety, though the only change is the above-mentioned typographical error.

List of Subject in 7 CFR Part 246

Administrative practice and procedure, Civil rights, Food assistance programs, Grant programs—health, Grant programs—social programs, Infants and children, Maternal and child health, Nutrition.

For reasons set forth in the preamble, the Food and Nutrition Service correctly amends 7 CFR part 246 as follows:

PART 246—SPECIAL SUPPLEMENTAL NUTRITION PROGRAM FOR WOMEN, INFANTS AND CHILDREN

1. The authority citation for part 246 continues to read as follows:

Authority: 42 U.S.C. 1786.

2. In § 246.10, revise table 1 to read as follows:

§ 246.10 Supplemental foods.

* * * * *

Table 1—Maximum Monthly Allowances of Supplemental Foods for Infants in Food Packages I, II and III
Foods ¹ | Fully formula fed (FF): Food packages I-FF & III-FF A: 0 through 3 months B: 4 through 5 months | Fully formula fed (FF): Food packages II-FF & III-FF 6 through 11 months | Partially breastfed (BF/FF): Food packages I-BF/FF & III BF/FF A: 0 to 1 month ² B: 1 through 3 months ² C: 4 through 5 months | Partially breastfed (BF/FF): Food packages II- BF/FF & III BF/FF 6 through 11 months | Fully breastfed (BF): Food package I-BF 0 through 5 months | Fully breastfed (BF): Food package II-BF 6 through 11 months
WIC Formula 4 5 6 7 | A: 806 fl oz reconstituted liquid concentrate or 832 fl. oz. RTF or 870 fl oz reconstituted powder B: 884 fl oz reconstituted liquid concentrate or 896 fl. oz. RTF or 960 fl oz reconstituted powder | 624 fl. oz. reconstituted liquid concentrate or 640 fl. oz. RTF or 696 fl oz reconstituted powder | A: 104 fl oz reconstituted powder ³ B: 364 fl oz reconstituted liquid concentrate or 384 fl oz RTF or 435 fl oz reconstituted powder C: 442 fl. oz. reconstituted liquid concentrate or 448 fl. oz. RTF or 522 fl oz reconstituted powder | 312 fl. oz. reconstituted liquid concentrate or 320 fl. oz. RTF or 384 fl oz reconstituted powder
Infant cereal ⁸ |  | 24 oz |  | 24 oz |  | 24 oz.
Infant food fruits and vegetables 8 9 10 |  | 128 oz |  | 128 oz |  | 256 oz.
Infant food meat 8 10 |  |  |  |  |  | 77.5 oz.
Table 1 Footnotes: (Abbreviations in order of appearance in table): FF = fully formula fed; BF/FF = partially breastfed (i.e., the infant is breastfed but also receives formula from the WIC Program); BF = fully breastfed (i.e., the infant receives no formula through the WIC program).
¹ Table 4 describes the minimum requirements and specifications for the supplemental foods.
² The powder form is the form recommended for partially breastfed infants ages 0 through 3 months in Food Package I.
³ Liquid concentrate and ready-to-feed (RTF) may be substituted at rates that provide comparable nutritive value.
⁴ WIC formula means infant formula, exempt infant formula, or WIC-eligible medical food. Only infant formula may be issued for infants in Food Packages I and II. Exempt infant formula may only be issued for infants in Food Package III.
⁵ The maximum monthly allowance is specified in reconstituted fluid ounces for liquid concentrate, RTF liquid, and powder forms of infant formula and exempt infant formula. Reconstituted fluid ounce is the form prepared for consumption as directed on the container.
⁶ If powder infant formula is provided, State agencies must provide at least the number of reconstituted fluid ounces as the maximum allowance for the liquid concentrate form of the same product in the same Food Package up to the maximum monthly allowance for powder. State agencies must issue whole containers that are all the same size.
⁷ State agencies may round up and disperse whole containers of infant formula over the food package timeframe to allow participants to receive the full authorized nutritional benefit (FNB). State agencies must use the methodology described in accordance with paragraph (h)(1) of this section.
⁸ State agencies may round up and disperse whole containers of infant foods (infant cereal, fruits and vegetables, and meat) over the Food Package timeframe. State agencies must use the methodology described in accordance with paragraph (h)(2) of this section.
⁹ Fresh banana may replace up to 16 ounces of infant food fruit at a rate of 1 pound of bananas per 8 ounces of infant food fruit.
¹⁰ In lieu of infant foods (cereal, fruit and vegetables, and meat), infants greater than 6 months of age in Food Package III may receive exempt infant formula or WIC-eligible medical foods at the same maximum monthly allowance as infants ages 4 through 5 months of age of the same feeding option.

* * * * *

Dated: August 25, 2009.
Julia Paradis,
Administrator, Food and Nutrition Service.

[FR Doc. E9-22590 Filed 9-24-09; 8:45 am]

BILLING CODE 3410-30-P